DEPARTMENT OF AGRICULTURE

Animal and Plant Health Inspection Service

9 CFR Part 11

[Docket No. APHIS-2011-0030]

RIN 0579-AD43

Horse Protection Act; Requiring Horse Industry Organizations To Assess and Enforce Minimum Penalties for Violations; Correction

AGENCY: Animal and Plant Health Inspection Service, USDA.

ACTION: Correcting amendment.

SUMMARY: In a final rule that was published in the Federal Register on June 7, 2012, and effective on July 9, 2012, we amended the horse protection regulations to require horse industry organizations or associations that license Designated Qualified Persons to assess and enforce minimum penalties for violations of the Horse Protection Act. One of the minimum penalties was for violations related to shoeing the horse, but we neglected to include a citation to one of the shoeing violations for which the penalty should be assessed. This document corrects that error.

DATES: Effective January 17, 2014.

FOR FURTHER INFORMATION CONTACT: Dr. Rachel Cezar, Horse Protection National Coordinator, Animal Care, APHIS, 4700 River Road, Unit 84, Riverdale, MD 20737; (301) 851-3746.

SUPPLEMENTARY INFORMATION:

Background

In a final rule that was published in the Federal Register on June 7, 2012 (77 FR 33607-33619, Docket No. APHIS-2011-0030), and effective on July 9, 2012, we amended the horse protection regulations in 9 CFR part 11 to require horse industry organizations or associations that license Designated Qualified Persons to assess and enforce minimum penalties for violations of the Horse Protection Act. We established the minimum penalties in a new § 11.25.

Paragraph (c)(6) of § 11.25 sets out the minimum penalty for a shoeing violation, which is that the horse must be dismissed from the remainder of the horse show, exhibition, sale, or auction at which it is being inspected. The paragraph specifically cites the shoeing violation in paragraph (b)(18) of § 11.2, a section that lists various equipment-related violations. However, in the final rule, we neglected to include paragraph (b)(19) as a violation for which this minimum penalty must be assessed. Paragraph (b)(19) of § 11.2 indicates that the following is prohibited:

Lead or other weights attached to the outside of the hoof wall, the outside surface of the horseshoe, or any portion of the pad except the bottom surface within the horseshoe. Pads may not be hollowed out for the purpose of inserting or affixing weights, and weights may not extend below the bearing surface of the shoe. Hollow shoes or artificial extensions filled with mercury or similar substances are prohibited.

As this is a shoeing-related prohibition, the minimum penalty for a shoeing violation should be assessed when a horse is found to be in violation of paragraph (b)(19). This document corrects the error by amending paragraph (c)(6) of § 11.25 to refer to both paragraphs (b)(18) and (b)(19) as shoeing violations for which the minimum penalty must be assessed.

List of Subjects in 9 CFR Part 11

Animal welfare, Horses, Reporting and recordkeeping requirements.

Accordingly, 9 CFR part 11 is corrected by making the following correcting amendment:

PART 11—HORSE PROTECTION REGULATIONS

1. The authority citation for part 11 continues to read as follows:

Authority: 15 U.S.C. 1823-1825 and 1828; 7 CFR 2.22, 2.80, and 371.7.

2. In § 11.25, paragraph (c)(6) is revised to read as follows:

§ 11.25 Minimum penalties to be assessed and enforced by HIOs that license DQPs.

* * * * *

(c) * * *

(6) Shoeing violation. Violation of the shoeing-related prohibitions in § 11.2(b)(18) and (b)(19). The horse must be dismissed from the remainder of the horse show, exhibition, sale, or auction.

* * * * *

Done in Washington, DC, this 13th day of January 2014.
Kevin Shea,
Administrator, Animal and Plant Health Inspection Service.

[FR Doc. 2014-00880 Filed 1-16-14; 8:45 am]

BILLING CODE 3410-34-P